DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Post Registration (Trademark Processing).

Form Number(s): PTO Forms 1553, 1583, 1597, 1963, 4.16.

Agency Approval Number: 0651-0055.

Type of Request: Revision of a currently approved collection.

Burden: 17,466 hours.

Number of Respondents: 127,136 responses.

Avg. Hours per Response: 3 to 30 minutes (0.05 to 0.50 hours). This includes time to gather the necessary information, create the documents, and mail the completed request. The time estimates for the electronic forms in this collection are based on the average amount of time needed to complete and electronically file the associated form.

Needs and Uses: The information in this collection is a matter of public record and is used by the public for a variety of private business purposes related to establishing and enforcing trademark rights. The information is available at USPTO facilities and also can be accessed at the USPTO Web site. Additionally, the USPTO provides the information to other entities, including Patent and Trademark Depository Libraries (PTDLs). The PTDLs maintain the information for use by the public.

Affected Public: Individuals or households; business or other for-profit; not-for-profit institutions.

Frequency: On occasion.

Respondent's Obligation: Required to obtain or retain benefits.

OMB Desk Officer: Nicholas A. Fraser, e-mail: Nicholas.A.Fraser@omb.eop.gov.

Once submitted, the request will be publicly available in electronic format through the Information Collection Review page at http://www.reginfo.gov.

Paper copies can be obtained by:

• E-mail: Susan.Fawcett@uspto.gov. Include “0651-0055 Post Registration (Trademark Processing) copy request” in the subject line of the message.

• Fax: 571-273-0112, marked to the attention of Susan K. Fawcett.

• Mail: Susan K. Fawcett, Records Officer, Office of the Chief Information Officer, Administrative Management Group, United States Patent and Trademark Office, P.O. Box 1450, Alexandria, VA 22313-1450.

Written comments and recommendations for the proposed information collection should be sent on or before June 1, 2009 to Nicholas A. Fraser, OMB Desk Officer, via e-mail at Nicholas.A.Fraser@omb.eop.gov or by fax to (202) 395-5167, marked to the attention of Nicholas A. Fraser.

Susan K. Fawcett,
Records Officer, USPTO, Office of the Chief Information Officer, Administrative Management Group.

[FR Doc. E9-9908 Filed 4-29-09; 8:45 am]

BILLING CODE 3510-16-P